FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than August 30, 2021.

A. Federal Reserve Bank of Dallas (Karen Smith, Director, Applications) 2200 North Pearl Street, Dallas, Texas 75201-2272:

1. Security State Bank & Trust, Fredericksburg, Texas, as co-trustee of the Kathleen Keller 2016 Trust, Blanco County, Texas, and of the Kay Durst Family 2016 Trust, Gillespie County, Texas; to retain voting shares of Security Holding Company, and thereby indirectly retain voting shares of Security State Bank & Trust, both of Fredericksburg, Texas.

Additionally, the Elliott Gage Hayne GST Trust, Elliott Gage Hayne, as trustee, the James L. Hayne, Jr. GST Trust, James L. Hayne, Jr., as trustee, the Nancy Elliott Hayne GST Trust, Nancy Elliott Hayne, as trustee, and the Walter Catto Hayne GST Trust, Walter Catto Hayne, as trustee, all of San Antonio, Texas; to join the Bonnen/Durst/Hayne/Igler/Keller/Kemp/LeJeune/Loth control group, a group acting in concert, to retain voting shares of Security Holding Company, and thereby indirectly retain voting shares of Security State Bank & Trust.

Board of Governors of the Federal Reserve System, August 10, 2021.
Ann Misback,
Secretary of the Board.

[FR Doc. 2021-17390 Filed 8-12-21; 8:45 am]

BILLING CODE P